DEPARTMENT OF VETERANS AFFAIRS

[Docket No. VA-2025-VACO-0002]

Corporate Senior Executive Management Office Notice of Performance Review Board Members

AGENCY: Department of Veterans Affairs, Corporate Senior Executive Management Office.

ACTION: Notice.

SUMMARY: Agencies are required to publish a notice in the Federal Register of the appointment of Performance Review Board (PRB) members. This notice announces the appointment of individuals to serve on the PRB of the Department of Veterans Affairs.

DATES: This appointment is effective October 24, 2025.

FOR FURTHER INFORMATION CONTACT: Shana Love Holmon, Executive Director, Corporate Senior Executive Management Office, Office of Human Resources and Administration, 202-632-5285.

SUPPLEMENTARY INFORMATION: The membership of the Department of Veterans Affairs Performance Review Board is as follows:

Lawrence, Paul R.—Chair

Engelbaum, Mark R.—Vice Chair

Bergin, Donald J.

Bocchicchio, Alfred

Boyd, Teresa D.

Brown, Samuel B.

Burch, Jennifer A.

Cashour, Curtis E.

Catano, Maura

Cellura, Christina H.

De Leon, Joshua

Devlin, Margarita

Dietrich, Jill K.

Dinesen, Ian M.

Dossie, Susie L.

Ducker, Daniel L.

Flynn, Julianne

Hausman, Mark S.

Hawthorne, Cory

Hillian-Craig, Jacqueline A.

Jones, Wendell E.

Lauder, Jon M.

Lee, Aaron M.

Lieberman, Steven

Lilly, Ryan S.

Llorente, Maria D.

Manuel, Howard L.

McIlroy, Andrew R.

Navaratnasingam, Pritz

Newman, Michael T.

Powers, Glenn

Pozzebon, Lisa

Quill, Joshua J.

Radway, Ted L.

Roy, Faith D.

Runyan, Danielle A.

Smith, Tres C.

Stapleton, John O.

Stoddard, Michael T.

Terrell, Brandye

Toles, Krystal M.

Topping, Richard F.

Waddington, George

Authority: 5 U.S.C. 4314(c)(4).

Signing Authority

Douglas A. Collins, Secretary of Veterans Affairs, approved this document on October 20, 2025, and authorized the undersigned to sign and submit the document to the Office of the Federal Register for publication electronically as an official document of the Department of Veterans Affairs.

Taylor N. Mattson,
Alternate Federal Register Liaison Officer, Department of Veterans Affairs.

[FR Doc. 2025-19649 Filed 10-23-25; 8:45 am]

BILLING CODE 8320-01-P